POSTAL SERVICE BOARD OF GOVERNORS

Sunshine Act Meeting

Board Votes to Close December 1, 2000, Meeting

At its meeting on November 14, 2000, the Board of Governors of the United States Postal Service voted unanimously to close to public observation its meeting scheduled for December 1, 2000, in Washington, D.C., via teleconference.

Matter To Be Considered: 1. Postal Rate Commission Opinion and Recommended Decision in Docket No. R2000-1, Omnibus Rate Case.

Persons Expected To Attend: Governors Ballard, Daniels, del Junco, Dyhrkopp, Fineman, Kessler, McWherter, Rider and Walsh, Postmaster General Henderson, Deputy Postmaster General Nolan, Secretary to the Board Hunter, and General Counsel Gibbons.

General Counsel Certification: The General Counsel of the United States Postal Service has certified that the meeting was properly closed under the Government in the Sunshine Act.

Contact Person for More Information: Requests for information about the meeting should be addressed to the Secretary of the Board, David G. Hunter, at (202) 268-4800.

David G. Hunter,
Secretary.

[FR Doc. 00-30367 Filed 11-22-00; 8:45 am]

BILLING CODE 7710-12-M